DEPARTMENT OF JUSTICE

Notice of Lodging of Proposed Consent Decree Amendment Under the Comprehensive Environmental Response, Compensation, and Liability Act

On November 1, 2016, the Department of Justice lodged a proposed Consent Decree Amendment with the United States District Court for the District of Oregon in the lawsuit entitled United States v. Kerr-McGee Corp. et al., Civil Action No. 04-00032.

This Consent Decree Amendment resolves disputes with the remaining Defendants, formally dismisses Tronox Incorporated from the Decree, and largely terminates the ongoing Work obligations of the two remaining Defendants to the original 2005 Consent Decree: Fremont Lumber Company and Western Nuclear, Inc. This action involves the White King/Lucky Lass Superfund Site (“Site”) in Lakeview County, Oregon. Under the terms of the 2005 Decree, Defendants agreed to implement the remedial action at the Site, pay some past costs, perform a Supplemental Environmental Project, and undertake some further limited actions. The remedial action has been completed and all other obligations under the Decree, except Oversight and Maintenance (O&M) and Five Year Reviews, have been achieved.

The publication of this notice opens a period for public comment on the Consent Decree Amendment. Comments should be addressed to the Assistant Attorney General, Environment and Natural Resources Division, and should refer to United States v. Kerr-McGee Corp. et al., Civil Action No. 04-00032, DJ Ref. No. 90-11-2-923/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree Amendment may be examined and downloaded at this Justice Department Web site: https://www.justice.gov/enrd/consent-decrees. We will provide a paper copy of the Consent Decree Amendment upon written request and payment of reproduction costs. Please mail your request and payment to: Consent Decree Library, U.S. DOJ—ENRD, P.O. Box 7611, Washington, DC 20044-7611.

Please enclose a check or money order for $25.00 (25 cents per page reproduction cost) payable to the United States Treasury. For a paper copy without the exhibits, the cost is $2.50.

Susan M. Akers,
Assistant Section Chief, Environmental Enforcement Section, Environment and Natural Resources Division.

[FR Doc. 2016-26822 Filed 11-4-16; 8:45 am]

BILLING CODE 4410-15-P